FEDERAL ELECTION COMMISSION

Sunshine Act Meeting

TIME AND DATE: Thursday, June 18, 2020 at 10:00 a.m.

PLACE: Virtual Meeting. Note: Because of the COVID-19 pandemic, we will conduct the open meeting virtually. If you would like to access the meeting, see the instructions below.

STATUS: This meeting will be open to the public. To access the virtual meeting, go to the commission's website www.fec.gov and click on the banner to be taken to the meeting page.

MATTERS TO BE CONSIDERED:

Welcoming Remarks

Election of Officers

Draft Advisory Opinion 2019-15: NORPAC

Draft Advisory Opinion 2019-16: Philip Shemanski

Draft Advisory Opinion 2019-18: IDF International Technologies, Inc.

Notice of Availability for REG 2020-02 (Transfers from Candidate's Authorized Committee)

Management and Administrative Matters

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2020-12971 Filed 6-11-20; 4:15 pm]

BILLING CODE 6715-01-P